DEPARTMENT OF ENERGY

Federal Energy Regulatory Commission

Combined Notice of Filings No. 2

July 26, 2010.

Take notice that the Commission has received the following Natural Gas Pipeline Rate and Refund Report filings:

Docket Numbers: RP10-973-001.

Applicants: Natural Gas Pipeline Company of America.

Description: Natural Gas Pipeline Company of America LLC submits revised negotiated rate transaction replacing a contract amendment originally filed 7/16/10.

Filed Date: 07/21/2010.

Accession Number: 20100721-0213.

Comment Date: 5 p.m. Eastern Time on Monday, August 2, 2010.

Docket Numbers: RP10-877-004.

Applicants: Cameron Interstate Pipeline, LLC.

Description: Cameron Interstate Pipeline, LLC submits tariff filing per 154.203: Cameron Interstate Pipeline, Compliance Tariff Filing July 21, 2010 to be effective.

Filed Date: 07/22/2010.

Accession Number: 20100722-5050.

Comment Date: 5 p.m. Eastern Time on Tuesday, August 3, 2010.

Docket Numbers: RP10-492-002.

Applicants: Trailblazer Pipeline Company LLC.

Description: Trailblazer Pipeline Company LLC submits report of refunds issued to shippers on July 7, 2010 for the period of January 1, 2010 to May 31, 2010.

Filed Date: 07/23/2010.

Accession Number: 20100723-0212.

Comment Date: 5 p.m. Eastern Time on Wednesday, August 4, 2010.

Docket Numbers: RP10-972-001.

Applicants: Gulfstream Natural Gas System, L.L.C.

Description: Gulfstream Natural Gas System, L.L.C. submits tariff filing per 154.203: Baseline Errata Filing to be effective 7/16/2010.

Filed Date: 07/23/2010.

Accession Number: 20100723-5021.

Comment Date: 5 p.m. Eastern Time on Wednesday, August 4, 2010.

Docket Numbers: RP10-976-001.

Applicants: Northern Natural Gas Company.

Description: Northern Natural Gas Company submits Second Revised Sheet 65 to FERC Gas Tariff, Fifth Revised Volume 1, to be effective 8/16/10.

Filed Date: 07/23/2010.

Accession Number: 20100723-0213.

Comment Date: 5 p.m. Eastern Time on Wednesday, August 4, 2010.

Any person desiring to protest this filing must file in accordance with Rule 211 of the Commission's Rules of Practice and Procedure (18 CFR 385.211). Protests to this filing will be considered by the Commission in determining the appropriate action to be taken, but will not serve to make protestants parties to the proceeding. Such protests must be on or before 5 p.m. Eastern time on the specified comment date. Anyone filing a protest must serve a copy of that document on all the parties to the proceeding.

The Commission encourages electronic submission of protests in lieu of paper using the “eFiling” link at http://www.ferc.gov. Persons unable to file electronically should submit an original and 14 copies of the protest to the Federal Energy Regulatory Commission, 888 First Street, NE., Washington, DC 20426.

This filing is accessible on-line at http://www.ferc.gov, using the “eLibrary” link and is available for review in the Commission's Public Reference Room in Washington, DC. There is an “eSubscription” link on the Web site that enables subscribers to receive e-mail notification when a document is added to a subscribed docket(s). For assistance with any FERC Online service, please e-mail FERCOnlineSupport@ferc.gov, or call (866) 208-3676 (toll free). For TTY, call (202) 502-8659.

Nathaniel J. Davis, Sr.,
Deputy Secretary.

[FR Doc. 2010-19238 Filed 8-4-10; 8:45 am]

BILLING CODE 6717-01-P